DEPARTMENT OF COMMERCE

National Oceanic and Atmospheric Administration

RIN 0648-XA641

Marine Mammals; File No. 16553

Correction

In notice document 2011-21001 appearing on page 51002 in the issue of August 17, 2011, make the following correction:

On page 51002, in the second column, under the DATES heading, in the third line, “August 17, 2011” should read “September 16, 2011”.

[FR Doc. C1-2011-21001 Filed 8-19-11; 8:45 am]

BILLING CODE 1505-01-D